DEPARTMENT OF ENERGY

DOE/NSF High Energy Physics Advisory Panel

AGENCY: Department of Energy, Office of Science.

ACTION: Notice of Open Meeting.

SUMMARY: This notice announces a meeting of the DOE/NSF High Energy Physics Advisory Panel (HEPAP). The Federal Advisory Committee Act (Pub. L. 92-463, 86 Stat. 770) requires that public notice of these meetings be announced in the Federal Register.

DATES: Friday, December 6, 2013; 9:00 a.m.-6:00 p.m. Saturday, December 7, 2013; 9:00 a.m.-4:00 p.m.

ADDRESSES: Gaithersburg Marriott, 9751 Washingtonian Boulevard, Gaithersburg, Maryland 20878.

FOR FURTHER INFORMATION CONTACT: John Kogut, Executive Secretary; High Energy Physics Advisory Panel; U.S. Department of Energy; SC-25/Germantown Building, 1000 Independence Avenue SW., Washington, DC 20585-1290; Telephone: (301) 903-1298.

SUPPLEMENTARY INFORMATION: Purpose of Meeting: To provide advice and guidance on a continuing basis to the Department of Energy and the National Science Foundation on scientific priorities within the field of high energy physics research.

Tentative Agenda: Agenda will include discussions of the following:

December 6-7, 2013

• Discussion of Department of Energy High Energy Physics Program

• Discussion of National Science Foundation Elementary Particle Physics Program

• Reports on and Discussions of Topics of General Interest in High Energy Physics

• Public Comment (10-minute rule)

Public Participation: The meeting is open to the public. A webcast of this meeting will be available. Please check the Web site below for updates and information on how to view the meeting. If you would like to file a written statement with the Committee, you may do so either before or after the meeting. If you would like to make oral statements regarding any of these items on the agenda, you should contact John Kogut, (301) 903-1298 or John.Kogut@science.doe.gov. You must make your request for an oral statement at least five business days before the meeting. Reasonable provision will be made to include the scheduled oral statements on the agenda. The Chairperson of the Panel will conduct the meeting to facilitate the orderly conduct of business. Public comment will follow the 10-minute rule.

Minutes: The minutes of the meeting will be available on the U.S. Department of Energy's Office of High Energy Physics Advisory Panel Web site: http://science.energy.gov/hep/hepap/meetings/.

Issued at Washington, DC, on November 15, 2013.
LaTanya R. Butler,
Deputy Committee Management Officer.

[FR Doc. 2013-27939 Filed 11-20-13; 8:45 am]

BILLING CODE 6450-01-P